OFFICE OF PERSONNEL MANAGEMENT

[Optional Form 306, OMB No. 3206-0182]

Submission for OMB Review; Comment Request for Clearance of a Reinstatement, With Change, of a Previously Approved Collection for Which Approval Has Expired; Declaration for Federal Employment

AGENCY: Office of Personnel Management.

ACTION: Notice.

SUMMARY: In accordance with the Paperwork Reduction Act of 1995 (Pub. L. 104-13, May 22, 1995), this notice announces that the Office of Personnel Management (OPM) has submitted a request to the Office of Management and Budget (OMB) for reinstatement of an expired information collection with change. The Optional Form (OF) 306, Declaration for Federal Employment, is completed by applicants who are under consideration for Federal or Federal contract employment.

The OF 306 requests that the applicant provide personal identifying data, including, for example, general background information, information on Selective Service registration, military service and information concerning retirement pay received or requested. The change is to make needed administrative updates and delete life insurance questions.

It is estimated that 474,000 individuals will respond annually. Each form takes approximately 15 minutes to complete. The annual estimated burden is 118,500 hours.

No comments were received on this proposal.

For copies of this proposal, contact Mary Beth Smith-Toomey on (202) 606-8358, FAX (202) 418-3251 or via E-mail to mbtoomey@opm.gov. Please include a mailing address with your request.

DATES: Comments on this proposal should be received within 30 calendar days for the date of this publication.

ADDRESSES: Send or deliver comments to: Kathy Dillaman, Associate Director, Federal Investigative Services Division, U.S. Office of Personnel Management, 1900 E Street, NW., Room 5416, Washington, DC 20415, and Rachel Potter/Brenda Aguilar, OPM Desk Officer, Office of Information and Regulatory Affairs, Office of Management Budget, New Executive Office Building, Room 10035, Washington, DC 20503.

For Information Regarding Administrative Coordination—Contact:

Deborah A. Micsky, Operational Policy Group, Federal Investigative Services Division, U.S. Office of Personnel Management, 1900 E Street, NW., Room 5416, Washington, DC 20415.

Office of Personnel Management.
Dan G. Blair,
Deputy Director.

[FR Doc. E6-14098 Filed 8-24-06; 8:45 am]

BILLING CODE 6325-53-P